SECURITIES AND EXCHANGE COMMISSION

[File No. 500-1]

In the Matter of Bullhide Corp.; Order of Suspension of Trading

April 25, 2006.

It appears to the Securities and Exchange Commission that there is a lack of current and accurate information concerning the securities of Bullhide Corp (a/k/a Bullhide Liner Corp.) because it has not filed a periodic report since the period ended December 31, 1999.

The Commission is of the opinion that the public interest and the protection of investors require a suspension of trading in the securities of the above-listed company.

Therefore, it is ordered, pursuant to Section 12(k) of the Securities Exchange Act of 1934, that trading in the above-listed company is suspended for the period from 9:30 a.m. EDT on April 25, 2006, through 11:59 p.m. EDT on May 8, 2006.

By the Commission.
Jill M. Peterson,
Assistant Secretary.

[FR Doc. 06-4009 Filed 4-25-06; 11:26 am]

BILLING CODE 8010-01-P